DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Evaluation of Emergency Department Crisis Center Follow-up—New

The Substance Abuse and Mental Health Services Administration's (SAMHSA), Center for Mental Health Services (CMHS) will conduct an evaluation to assess the impact of crisis center follow-up with patients admitted to emergency departments following a suicide attempt.

The overarching purpose of the proposed Evaluation of Emergency Department Crisis Center Follow-up—New is to examine the impact of crisis center follow-up with patients admitted to emergency departments following a suicide attempt on subsequent emergency department readmissions. In total this evaluation effort includes two data collection activities.

Clearance is being requested to abstract patient hospital data and companion crisis center data to examine the impact of crisis center follow-up on readmissions to the emergency department for suicidal behavior. The data collected through this project will ultimately help SAMHSA to understand and direct crisis center follow-up lifesaving initiatives. The data collection activities are described below.

Two funded crisis centers, working in collaboration with two hospital emergency departments, will provide follow-up services to patients seen in the emergency department following a suicide attempt. Patient data will be collected for patients admitted for a suicide attempt in the two years prior to collaboration between the emergency department and crisis center and for patients admitted for a suicide attempt for the 2-year period after collaboration.

(1) The Hospital Data Abstraction Form will be utilized to collect systematic patient data for patients seen in one of the two participating hospital emergency departments. Information to be abstracted from patient data include: Demographic data, historical data, and subsequent suicidal behavioral and admission data. Data will be de-identified. Hospital staff will review patient data for qualifying (i.e., admission to the emergency department for suicide attempt) records. Records to be reviewed will include emergency department admissions for the two years prior to crisis center and hospital emergency department collaboration and for two years following collaboration. It is expected that a total of 2,000 records will be abstracted by hospital staff and provided to the evaluation team.

(2) The Crisis Center Data Abstraction Form will be utilized to collect systematic crisis center data for patient records for whom hospital data were collected. Data will be de-identified and will only contain a patient identification number to match to the patient ID provided through hospital records.

The estimated response burden to collect this information is as follows annualized over the requested 3-year clearance period is presented below:

Total and Annualized Averages: Respondents, Responses and Hours
Instrument | Number of respondents | Responses per respondent* | Total number of responses | Burden per response | Annual burden*
Hospital Data Abstraction Form | 2 | 334 | 667 | .04 | 27
Crisis Center Data Abstraction Form | 2 | 167 | 333 | .04 | 13
Total | 4 |  |  |  | 40
* Rounded to the nearest whole number.

Send comments to Summer King, SAMHSA Reports Clearance Officer, Room 2-1057, One Choke Cherry Road, Rockville, MD 20857 and email her a copy at summer.king@samhsa.hhs.gov. Written comments should be received within 60 days of this notice.

Summer King,
SAMHSA Reports Clearance Officer.

[FR Doc. 2013-00523 Filed 1-11-13; 8:45 am]

BILLING CODE 4162-20-P